FEDERAL HOUSING FINANCE AGENCY

12 CFR Part 1282

Enterprise Housing Goals and Mission

CFR Correction

In Title 12 of the Code of Federal Regulations, Part 1100 to End, revised as of January 1, 2016, on page 400, in § 1282.1, the definition of “Very low income” is reinstated to read as follows:

§ 1282.1 Definitions.

* * * * *

(b) * * *

Very low-income means:

(i) In the case of owner-occupied units, income not in excess of 50 percent of area median income; and

(ii) In the case of rental units, income not in excess of 50 percent of area median income, with adjustments for smaller and larger families in accordance with this part.

[FR Doc. 2016-10521 Filed 5-3-16; 8:45 am]

BILLING CODE 1505-01-D